DEPARTMENT OF AGRICULTURE

Submission for OMB Review; Comment Request

August 11, 2000.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, D.C. 20503 and to Departmental Clearance Office, USDA, OCIO, Mail Stop 7602, Washington, D.C. 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

National Agricultural Statistics Service

Title: Monthly Hog Survey.

OMB Control Number: 0535-NEW.

Summary of Collection: The National Agricultural Statistics Service's (NASS) primary function is to prepare and issue State and national estimates of crop and livestock production and related economic factors. The information collection is being submitted to implement a Monthly Hog Survey Program. Implementation of a monthly hog survey is specified in Title IX—Livestock Mandatory Reporting, Subtitle C—Related Swine Reporting Provisions, Section 931, Improvement of Hogs and Pigs Inventory Report, which passed as part of the fiscal year 2000 Agricultural Appropriations Bill in October 1999. The Monthly Hog Survey Program will supplement the Hog Survey Program currently conducted as part of the Quarterly Agricultural Survey. The monthly surveys will use a shorter version of the quarterly questionnaire and will be conducted eight times a year, during the months between the Quarterly Hog Surveys.

Need and Use of the Information: NASS will collect information to determine production and marketing strategies, by the agricultural industry to assess markets and potential demand for products, and by the Federal government to analyze potential and actual production.

Description of Respondents: Farms.

Number of Respondents: 3,300.

Frequency of Responses: Reporting: Other (8 off qtr. months).

Total Burden Hours: 3,658.

National Agricultural Statistics Service

Title: Women on U.S. Farms.

OMB Control Number: 0535-NEW.

Summary of Collection: The National Agricultural Statistics Services (NASS) requests approval to expand the knowledge base concerning the participation of women in agriculture through a one-time telephone interview study. The last national-level study about women's participation in agriculture occurred in 1980 and was limited in the extent to which it addressed these issues. While specific tasks performed by people on farms have continued to change, NASS has limited information about how these changes have affected women. The U.S. Census of Agriculture, the leading source of statistics about agricultural production and farm operators in the United States, undercounts women's involvement in farm enterprises because only one operator per farm is counted.

Need and Use of the Information: The proposed information collection will address the following: (1) The nature and extent of women's participation in on-farm tasks and decision-making; (2) the type and level of their involvement in off-farm employment and in the informal economy; (3) characteristics of the farm operation; and (4) socio-demographic characteristics of the woman herself. Interviews will be conducted using a computer-assisted telephone interviewing system. The findings from the proposed study will provide information for developing government policies and programs that can more effectively serve women and men who live and work on farms, lower structural barriers and increase opportunities for women.

Description of Respondents: Business or other for-profit.

Number of Respondents: 6,000.

Frequency of Responses: Reporting: Other (One time).

Total Burden Hours: 2178.

Rural Utilities Service

Title: Preloan Procedures and Requirements for Telecommunications Program.

OMB Control Number: 0572-0079.

Summary of Collection: The Rural Utilities Service (RUS) is a credit agency of the U.S. Department of Agriculture. It makes mortgage loans and loan guarantees to finance telecommunications, electric, water and waste facilities in rural areas. RUS manages loan programs in accordance with the Rural Electrification Act of 1936, 7 U.S.C. 901 et. seq. (RE Act). The Act authorizes the Administrator to make loans to qualified telephone companies for the purpose of providing telephone service to the widest practicable number of rural subscribers. RUS collects information as a part of the loan-making process using several forms.

Need and Use of the Information: RUS will collect information to determine an applicant's eligibility to borrow from RUS under the terms of the RE Act. The information is also used to determine that the Government's security for loans made by RUS are reasonably adequate and that the loans will be repaid within the time agreed. Without the information, RUS could not effectively monitor each borrower's compliance with the loan terms and conditions to properly ensure continued loan security.

Description of Respondents: Business or other for-profit; Not-for-profit institutions.

Number of Respondents: 50.

Frequency of Responses: Reporting: On occasion.

Total Burden Hours: 3,621.

Rural Business-Cooperative Services

Title: Annual Survey of Farmer Cooperatives.

OMB Control Number: 0570-0007.

Summary of Collection: The Rural Business-Cooperative Services (RBS) was mandated the responsibility to acquire and disseminate information pertaining to agricultural cooperatives under the Cooperative Marketing Act of 1926: 7 U.S.C. 451-457 and Public Law No. 450. The primary objective of RBS is to promote understanding, use, and development of the cooperative form of business as a viable option for enhancing the income of agricultural producers and other rural residents. The annual survey collects basic statistics on cooperative business volume, net income, members, financial status, employees, and other selected information to support RBS' objective and role. RBS will use a variety of forms to collect information.

Need and Use of the Information: RBS uses the information collected for program planning, evaluation of service work, and cooperative analysis and education. By not collecting this information, the RBS would have difficulty carrying out its policy on farmer cooperatives.

Description of Respondents: Business or other for-profit.

Number of Respondents: 2649.

Frequency of Responses: Reporting: Annually.

Total Burden Hours: 2404.

Economic Research Service

Title: The Use of Food Safety Practices in Meat and Poultry Manufacturing and the Costs of the HACCP Regulation.

OMB Control Number: 0536-NEW.

Summary of Collection: Recent estimates suggest that microbial pathogens cause 6.5-33 million cases of human illness and up to 9,000 deaths each year. The findings have made food safety a major White House policy priority and have led to the enactment of the Pathogen Reduction Act of 1996. The Act mandates that meat and poultry slaughter and ground meat processing plants must comply with Salmonella standards established by the U.S. Department of Agriculture's Food Safety and Inspection Service (FSIS) and adopt generic E. coli pathogen testing. The Act also requires all meat and poultry slaughter and processing plants to write, maintain, and comply with standard Sanitation Operating Procedures (SSOPs) and implement and comply with Hazard Analysis Critical Control Point (HACCP) quality control points. The Economic Research Service (ERS) has the responsibility for providing economic research on the economics of food safety in the meat and poultry industries. ERS has agreed to conduct a cost analysis of the Pathogen Reduction Act to meat and poultry slaughter and processing manufacturing plant.

Need and Use of the Information: ERS will collect data to explore issues related to the costs and effectiveness of the Pathogen Reduction Act of 1996 and adoption and use of food safety equipment, methods, and sanitation practices. The data will also enhance ERS' ability to answer questions related to the costs of anticipated food safety regulatory changes and provide information on the strength and pervasiveness of the industry's commitment to food safety quality control. Without the data from the survey, policy makers are handicapped by a lack of detailed knowledge of the equipment, methods, and sanitation practices that plants employ to control pathogens in meat and poultry products.

Description of Respondents: Busienss or other for-profit.

Number of Respondents: 1312.5.

Frequency of Responses: Reporting: Other (One-time Survey).

Total Burden Hours: 656.25.

National Agricultural Statistics Service

Title: Honey Survey.

OMB Control Number: 0535-0153.

Summary of Collection: The National Agricultural Statistics Service's (NASS) primary function is to prepare and issue State and national estimates of crop and livestock production. General authority for these data collection activities is granted under U.S. Code Title 7, Section 2204. Domestic honeybees are critical to the pollination of U.S. crops, especially fruits and vegetables. Africanized bees, parasites, diseases, and pesticides threaten the survival of bees. NASS will collection information us8ing a survey.

Need and Use of the Information: NASS will collect information on the number of colonies, honey production, stocks, and prices. The survey will provide data needed by the Department and other government agencies to administer programs and to set trade quotas and tariffs. Without the information agricultural industry would not be aware of changes at the State and national level.

Description of Respondents: Farms.

Number of Respondents: 9,248.

Frequency of Responses: Reporting: Annually.

Total Burden Hours: 2,492.

Foreign Agricultural Services

Title: Dairy Tariff-Rate Import Quota Licensing Regulation.

OMB Control Number: 0551-0001.

Summary of Collection: The Foreign Agricultural Service (FAS) requests an extension of the current approved information collection in support of the Dairy Tariff-Rate Import Quota Licensing program. The Import Regulation 1, Regulation 1, Revision 8 governs the administration of the import licensing system for certain dairy products subject to tariff-rate quotas (TRQs). Imports of nearly all cheese made from cow's milk (except soft ripened cheese such as Brie) and certain non-cheese dairy products are subject to TRQs and the licensing provision of Revision 8. Applicants must submit the required form each quota year, January 1st through December 31st, to apply for and receive an import license.

Need and Use of the Information: FAS will use the information to ensure that the intent of the legislation is correctly administered and to determine an applicant's eligibility to obtain benefits. If the information were collected less frequently, FSA would be unable to issue licenses on an annual basis in compliance with the regulations.

Description of Respondents: Individuals or households.

Number of Respondents: 440.

Frequency of Responses: Recordkeeping; Reporting: Annually.

Total Burden Hours: 270.

Agricultural Marketing Services

Title: Marketing Order Committee/Board Interview.

OMB Control Number: 0581-NEW.

Summary of Collection: The Agricultural Marketing Service (AMS), under the authority of the Agricultural Marketing Agreement Act of 1937, regulates certain agricultural commodities for the purpose of providing orderly marketing conditions in interstate commerce and improving returns to producers. AMS would like to conduct a series of interviews to gather information from marketing order and agreement managers and committee or board members. The participants would be asked about their concerns about serving on marketing order or agreement committees or boards. Other questions would focus on developing an understanding of what motivates participation by committee or board members in providing oversight of marketing order and agreement committees and boards. The interviews would be conducted by a contractor and are estimated to take approximately one hour.

Need and Use of the Information: AMS will collect qualitative information to develop a baseline for understanding how to work with all industry representatives more effectively, how to assist existing members in clarifying perceived barriers to more effective oversight by industry members, and how to help AMS support leadership growth. Ultimately, AMS hopes to use the information gathered to lay the groundwork for a Leadership Development Program that would increase participation by all groups in committee and board activities.

Description of Respondents: Business or other for-profit.

Number of Respondents: 50.

Frequency of Responses: Reporting: Annually.

Total Burden Hours: 50.

Agency has requested emergency approval by August 18, 2000.

Food and Nutrition Service

Title: Assessment of Computer Matching in the Food Stamp Program.

OMB Control Number: 0584-NEW.

Summary of Collection: The Food and Nutrition Service (FNS) is responsible for the development and implementation of national Food Stamp Program policy. State agencies are responsible for administration of the Food Stamp Program with FNS monitoring State operations and evaluating performance. One method used by States to verify the eligibility of new food stamp applicants and the continuing eligibility of current recipients is computer matching. A variety of databases are available for this use. FNS plans to conduct a census of the State agencies to gather current information on (1) How States use external databases that have been available to them for several years; and (2) newer matching strategies that have been suggested as relevant to the Food Stamp program or mandated by legislation. The study will be conducted with the support of a contractor who will use telephone interviews as a means of gaining answers to a set of predetermined questions.

Need and Use of the Information: The data collected in this study will provide FNS with a comprehensive overview of how States are currently using computer matching strategies for error reduction in the Food Stamp Program. The results of the study will provide FNS with valuable information that can inform decision making; assist in policy development; and influence program design decisions. The primary users of the information will be FNS headquarters, FNS regional offices, State Food Stamp agencies, Congress and other Federal agencies concerned with program integrity issues. If this information is not collected, then FNS' ability to improve the integrity of the Food Stamp Program with respect to computer matching will be impaired.

Description of Respondents: State, Local, or Tribal Government; Federal Government.

Number of Respondents: 16.

Frequency of Responses: Reporting: Other (One time).

Total Burden Hours: 212.

Nancy B. Sternberg,
Departmental Clearance Officer.

[FR Doc. 00-20915 Filed 8-16-00; 8:45 am]

BILLING CODE 3410-01-M